DEPARTMENT OF COMMERCE

International Trade Administration

[A-549-842]

Passenger Vehicle and Light Truck Tires From Thailand: Final Results of Antidumping Duty Administrative Review; 2022-2023

AGENCY: Enforcement and Compliance, International Trade Administration, Department of Commerce.

SUMMARY: The U.S. Department of Commerce (Commerce) determines that Prinx Chengshan Tire (Thailand) Co., Ltd. (Prinx) and Sumitomo Rubber (Thailand) Co., Ltd. (SRT) made sales of subject merchandise in the United States at prices below normal value (NV) during the period of review (POR) July 1, 2022, through June 30, 2023. Commerce further determines that sales of subject merchandise made by the non-individually examined companies were at prices below NV.

DATES: Applicable May 13, 2025.

FOR FURTHER INFORMATION CONTACT: Myrna Lobo or Jacob Saude, AD/CVD Operations, Office VII, Enforcement and Compliance, International Trade Administration, U.S. Department of Commerce, 1401 Constitution Avenue NW, Washington, DC 20230; telephone: (202) 482-2371 or (202) 482-0981, respectively.

SUPPLEMENTARY INFORMATION:

Background

On August 9, 2024, Commerce published the Preliminary Results and invited comments from interested parties.¹ On November 6, 2024, Commerce extended the deadline for the final results of this administrative review until February 5, 2025.² On December 9, 2024, Commerce tolled the deadline to issue the final results in this administrative review by an additional 90 days to May 6, 2025.³ For details regarding the events that occurred since the Preliminary Results, see the Issues and Decision Memorandum.⁴

¹ See Passenger Vehicle and Light Truck Tires from Thailand: Preliminary Results and Rescission, in Part, of Antidumping Duty Administrative Review; 2022-2023, 89 FR 65320 (August 9, 2024) (Preliminary Results), and accompanying Preliminary Decision Memorandum (PDM).

² See Memorandum, “Extension of Deadline for Final Results of Antidumping Duty Administrative Review; 2022-2023,” dated November 6, 2024.

³ See Memorandum, “Tolling of Deadlines for Antidumping and Countervailing Duty Proceedings,” dated December 9, 2024.

⁴ See Memorandum, “Issues and Decision Memorandum for the Final Results of Antidumping Duty Administrative Review of Passenger Vehicle and Light Truck Tires from Thailand; 2022-2023,” dated concurrently with, and hereby adopted by, this notice (Issues and Decision Memorandum).

Scope of the Order ⁵

⁵ See Passenger Vehicle and Light Truck Tires from the Republic of Korea, Taiwan, and Thailand: Antidumping Duty Orders and Amended Final Affirmative Antidumping Duty Determination for Thailand, 86 FR 38011 (July 19, 2021) (Order).

The merchandise covered by the Order is passenger vehicle and light truck tires from Thailand. For a complete description of the scope of the Order, see the Issues and Decision Memorandum.⁶

⁶ See Issues and Decision Memorandum.

Analysis of Comments Received

We addressed all issues raised in the case and rebuttal briefs filed in this administrative review in the Issues and Decision Memorandum. For a list of the issues raised by interested parties, see the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade/gov/public/FRNoticesListLayout.aspx.

Changes Since the Preliminary Results

Based on our review of the record and comments received from interested parties, we made certain changes to the margin calculations for Prinx and SRT for these final results of review. As a result of these changes, the weighted-average dumping margin changed for the companies subject to this review, but not selected for individual examination. For a discussion of these changes, see the Issues and Decision Memorandum.

Rates for Non-Examined Companies

The Tariff Act of 1930, as amended (the Act) and Commerce's regulations do not address the establishment of a weighted-average dumping margin to be determined for companies not selected for individual examination when Commerce limits its examination in an administrative review pursuant to section 777A(c)(2) of the Act. Generally, Commerce looks to section 735(c)(5) of the Act, which provides instructions for calculating the all-others rate in an investigation, for guidance when determining the weighted-average dumping margin for companies which were not selected for individual examination in an administrative review.

Section 735(c)(5)(A) of the Act provides that Commerce will base the all-others rate on the weighted average of the estimated weighted-average dumping margins calculated for the individually examined respondents, excluding rates that are zero, de minimis, or based entirely on facts available. Where the estimated weighted-average dumping margin for each of the individually examined companies is zero, de minimis, or based entirely on facts available, section 735(c)(5)(B) of the Act provides that Commerce may use “any reasonable method to establish the estimated all-others rate for exporters and producers not individually investigated, including averaging the estimated weighted-average dumping margins determined for the exporters and producers individually investigated.”

In this review, we calculated weighted-average dumping margins for Prinx and SRT that are not zero, de minimis or based entirely on facts available. Therefore, we have assigned the non-examined companies a rate equal to the weighted average of the weighted-average dumping margins calculated for Prinx and SRT, consistent with the guidance in section 735(c)(5)(A) of the Act.⁷

⁷ See Memorandum, “Final Results of the Antidumping Duty Administrative Review of Passenger Vehicles and Light Truck Tires from Thailand: Rate for Non-Examined Companies,” dated concurrently with this notice.

Final Results of the Review

We determine the following estimated weighted-average dumping margins exist for the period July 1, 2022, through June 30, 2023.

Producer/exporter | Weighted- average dumping margin (percent)
Prinx Chengshan Tire (Thailand) Co., Ltd | 5.08
Sumitomo Rubber (Thailand) Co., Ltd | 3.76
Review-Specific Rate for Non-Examined Companies:
Bridgestone Company, Ltd | 3.89
Bridgestone Tire Manufacturing (Thailand) Co., Ltd | 3.89
S.R. Tyres Co., Ltd | 3.89
Thai Bridgestone Co., Ltd | 3.89
Vee Tyre & Rubber Co., Ltd | 3.89

Disclosure

We intend to disclose the calculations performed to interested parties in this proceeding within five days after the publication of this notice in the Federal Register, in accordance with 19 CFR 351.224(b).

Assessment Rates

Pursuant to section 751(a)(2)(A) of the Act and 19 CFR 351.212(b)(1), Commerce has determined, and U.S. Customs and Border Protection (CBP) shall assess, antidumping duties on all appropriate entries of subject merchandise in accordance with the final results of this review.⁸ Because the weighted-average dumping margins for Prinx and SRT are not zero or de minimis (i.e., less than 0.50 percent), for these final results, Commerce calculated importer-specific ad valorem assessment rates on the basis of on the ratio of the total amount of dumping calculated for each importer's examined sales to the total entered value sales. Where we do not have entered values for all U.S. sales to a particular importer, we will calculate an importer-specific, per-unit assessment rate on the basis of the ratio of the total amount of dumping calculated for the importer's examined sales to the total quantity of those sales.⁹ To determine whether an importer-specific, per-unit assessment rate is de minimis, in accordance with 19 CFR 351.106(c)(2), we also will calculate an importer-specific ad valorem ratio based on estimated entered values.

⁸ In these final results, Commerce applied the assessment rate calculation method adopted in Antidumping Proceedings: Calculation of the Weighted-Average Dumping Margin and Assessment Rate in Certain Antidumping Proceedings: Final Modification, 77 FR 8101 (February 14, 2012).

⁹ See 19 CFR 351.212(b)(1).

For entries of subject merchandise during the POR produced by either Prinx or SRT for which it did not know that the merchandise it sold to the intermediary (e.g., reseller, trading company, or exporter) was destined for the United States, we will instruct CBP to liquidate such entries at the all-others rate (i.e., 17.06 percent) ¹⁰ if there is no rate for the intermediate company(ies) involved in the transaction.¹¹

¹⁰ See Order, 86 FR at 38012.

¹¹ For a full discussion of this practice, see Antidumping and Countervailing Duty Proceedings: Assessment of Antidumping Duties, 68 FR 23954 (May 6, 2003).

For the companies that were not selected for individual review, we will assign an assessment rate based on the review-specific average rate, calculated as noted in the “Rate for Non-Examined Respondents” section above.

Commerce intends to issue assessment instructions to CBP no earlier than 35 days after the date of publication of these final results in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the date of publication of the final results of this administrative review, as provided by section 751(a)(2)(C) of the Act: (1) the cash deposit rates for the reviewed companies will be equal to the weighted-average dumping margin established in the final results of this review; (2) for producers or exporters not covered in this review but covered in a prior completed segment of the proceeding, the cash deposit rate will continue to be the company-specific rate published in the most recently completed segment; (3) if the exporter is not a firm covered in this review, a prior review, or the original less-than-fair-value (LTFV) investigation, but the producer is, then the cash deposit rate will be the rate established in the most recently completed segment for the producer of the merchandise; (4) the cash deposit rate for all other producers or exporters will continue to be 17.06 percent, the all-others rate established in the LTFV investigation in this proceeding.¹² These cash deposit requirements, when imposed, shall remain in effect until further notice.

¹² See Order.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

We are issuing and publishing these final results of administrative review in accordance with sections 751(a) and 777(i) of the Act, and 19 CFR 351.221(b)(5).

Dated: May 6, 2025.
Christopher Abbott,
Deputy Assistant Secretary for Policy and Negotiations, performing the Non-exclusive Functions and Duties of the Assistant Secretary for Enforcement and Compliance.

Appendix

List of Topics Discussed in the Issues and Decision Memorandum

I. Summary

II. Background

III. Scope of the Order

IV. Changes Since the Preliminary Results

V. Discussion of the Issues

Prinx

Comment 1: Commerce Should Substitute Adverse Facts Available for the U.S. Sales Expenses that Prinx Allocated by Weight

Comment 2: Commerce Should Ensure that Prinx's U.S. Prices Are Adjusted for All Royalty Payments

Comment 3: Commerce Should Allow Prinx to Withdraw its Review Request and Rescind the Review with Respect to Prinx

Comment 4: Commerce Must Adjust the Late Payment Charges

SRT

Comment 5: Commerce Should Rely on Adverse Facts for the Warehouse/Handline Fee that SRT Paid for its Secondary Sales

Comment 6: Commerce Should Adjust SRT's U.S. Secondary Sales Prices for Unreported Freight Costs

Comment 7: Commerce Should Substitute Adverse Facts Available for the USOTHTRU and INTNFRU Expenses Reported by SRT for its Secondary Sales

Comment 8: Commerce Should Adjust SRT's Prices for the Direct Support for its Sales that SRI has Provided

Comment 9: Commerce Grant a CEP Offset for SRT in the Final Results

Comment 10: Commerce Should Base the Universe of Reviewed Sales on Entry Date Where Such Information is Available

Comment 11: Commerce's Preliminary Use of the Cohen's d Test to Find Significant Price Differences Among SRT's Sales Data Was Arbitrary and Capricious and Unsupported by Substantial Evidence

Comment 12: Commerce Should Grant a Duty Drawback Adjustment for SRT in the Final Results

VI. Recommendation

[FR Doc. 2025-08341 Filed 5-12-25; 8:45 am]

BILLING CODE 3510-DS-P